COMMITTEE FOR PURCHASE FROM PEOPLE WHO ARE BLIND OR SEVERELY DISABLED

Procurement List; Addition and Deletion

AGENCY: Committee for Purchase From People Who Are Blind or Severely Disabled.

ACTION: Addition to and deletion from procurement list.

SUMMARY: This action adds to the Procurement List a service to be furnished by nonprofit agencies employing persons who are blind or have other severe disabilities, and deletes from the Procurement List a service previously furnished by such agencies.

EFFECTIVE DATE: July 4, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Addition

On March 19, 2004, the Committee for Purchase From People Who Are Blind or Severely Disabled published notice (69 F.R. 13019) of proposed additions to the Procurement List. The Federal Register proposed addition on March 19, 2004 identified the service as Furniture Rehabilitation Service. Review of the scope of work led to a decision to change the title of this Procurement List addition to more accurately reflect the work being done.

After consideration of the material presented to it concerning capability of qualified nonprofit agencies to provide the service and impact of the addition on the current or most recent contractors, the Committee has determined that the service listed below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the service proposed for addition to the Procurement List.

End of Certification

Accordingly, the following service is added to the Procurement List:

Service

Service Type/Location: System Furniture Reuse Services, North American Aerospace Defense Command (NORAD), Building 2, 250 Vandenberg Street, Peterson AFB, Colorado.

NPA: Aspen Diversified Industries, Inc., Colorado Springs, Colorado.

Contract Activity: Headquarters, Air Force Space Command, Peterson AFB, Colorado.

Deletion

On April 9, 2004, the Committee for Purchase From People Who Are Blind or Severely Disabled published notice (69 FR 18869) of proposed deletions to the Procurement List. After consideration of the relevant matter presented, the Committee has determined that the service listed below is no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Wheelchair Maintenance, Veterans Affairs Medical Center, Louisville, Kentucky.

NPA: New Vision Enterprises, Inc., Louisville, Kentucky.

Contract Activity: VA Medical Center, Louisville, Kentucky.

Sheryl D. Kennerly,
Director, Information Management.

[FR Doc. 04-12710 Filed 6-3-04; 8:45 am]

BILLING CODE 6353-01-P